DEPARTMENT OF HEALTH AND HUMAN SERVICES

Administration for Children and Families

Proposed Information Collection Activity; State Court Improvement Program (OMB # 0970-0307)

AGENCY: Children's Bureau Administration for Children and Families; HHS.

ACTION: Request for public comment.

SUMMARY: The Administration for Children and Families (ACF) is requesting a three-year extension of the Court Improvement Program (CIP) Program Instruction, Strategic Plan Template, and Annual CIP Self-Assessment (OMB #0970-0307, expiration 8/31/2019). There are minimal updates to the form to reflect new legislation. The collections are necessary to continue operating the program in compliance with congressional reauthorization.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The proposed collection is a continuation of the current collection and comprised of two components: An application including a strategic plan that is due once every five years, and an annual self-assessment. The next annual self-assessment will be due June 30, 2020. The next five- year application will be due in 2021.

Respondents: We anticipate the highest state court of every state, Puerto Rico and the U.S. Virgin Islands to respond. All 52 jurisdictions currently participate in the program.

Annual Burden Estimates
Instrument | Total number of respondents | Total number of responses per respondent | Average burden hours per response | Total burden hours | Annual burden hours
5-year Application | 52 | 1 | 92 | 4,784 | N/A
Annual self-assessment | 52 | 3 | 77 | 4,004 | 12,012

Estimated Total Annual Burden Hours: 4004 hours in 2020 and 2022; 8788 hours in 2021 (when both the self-assessment and the 5-year application are due within the year)

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 50761, Pub. L. 115-123

Mary B. Jones,
ACF/OPRE Certifying Officer.

[FR Doc. 2019-15639 Filed 7-22-19; 8:45 am]

BILLING CODE 4184-01-P